DEPARTMENT OF ENERGY

Federal Energy Regulatory Commission

Combined Notice of Filings #1

Take notice that the Commission received the following exempt wholesale generator filings:

Docket Numbers: EG12-43-000.

Applicants: Sherbino I Wind Farm LLC.

Description: Clarifying information of Sherbino I Wind Farm LLC.

Filed Date: 4/3/12.

Accession Number: 20120403-5204.

Comments Due: 5 p.m. ET 4/30/12.

Take notice that the Commission received the following electric rate filings:

Docket Numbers: ER12-1589-000.

Applicants: Public Service Company of Colorado.

Description: 2012-4-20_Att_O-PSCo Rate Filing to be effective 6/20/2012.

Filed Date: 4/20/12.

Accession Number: 20120420-5213.

Comments Due: 5 p.m. ET 5/11/12.

Docket Numbers: ER12-1590-000.

Applicants: Entergy Arkansas, Inc.

Description: AECI and Cargill PtP Service Agreements to be effective 4/20/2012.

Filed Date: 4/20/12.

Accession Number: 20120420-5214.

Comments Due: 5 p.m. ET 5/11/12.

Take notice that the Commission received the following electric securities filings:

Docket Numbers: ES12-36-000.

Applicants: Consumers Energy Company.

Description: Application for Authority to Issue Short Term Securities.

Filed Date: 4/20/12.

Accession Number: 20120420-5232.

Comments Due: 5 p.m. ET 5/11/12.

Take notice that the Commission received the following public utility holding company filings:

Docket Numbers: PH12-11-000.

Applicants: Algonquin Power & Utilities Corp.

Description: Application (Notification of Waiver of Algonquin Power & Utilities Corp.) of Algonquin Power & Utilities Corp.

Filed Date: 4/20/12.

Accession Number: 20120420-5231.

Comments Due: 5 p.m. ET 5/11/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2012.
Nathaniel J. Davis, Sr.,
Deputy Secretary.

[FR Doc. 2012-10403 Filed 4-30-12; 8:45 am]

BILLING CODE 6717-01-P